DEPARTMENT OF ENERGY

10 CFR Parts 430 and 431

[EERE-2018-BT-TP-0020]

Energy Conservation Program: Notice of Request for Information on the Measurement of Average Use Cycles or Periods of Use in DOE Test Procedures

AGENCY: Office of Energy Efficiency and Renewable Energy, Department of Energy.

ACTION: Extension of public comment period.

SUMMARY: On March 18, 2019, the U.S. Department of Energy (DOE) published a request for information (RFI) on the measurement of average cycles or periods of use in DOE test procedures in the Federal Register. This document announces an extension of the public comment period for submitting comments on the RFI. The comment period is extended to May 31, 2019.

DATES: The comment period for the RFI published on March 18, 2019 (84 FR 9721) is extended. DOE will accept comments, data, and information regarding this RFI received no later than May 31, 2019.

ADDRESSES: Interested persons are encouraged to submit comments using the Federal eRulemaking Portal at http://www.regulations.gov. Follow the instructions for submitting comments. Alternatively, interested persons may submit comments, identified by docket number EERE-2018-BT-TP-0020, by any of the following methods:

1. Federal eRulemaking Portal: http://www.regulations.gov. Follow the instructions for submitting comments.

2. Email: To UseCycleRFI2018TP0020@ee.doe.gov. Include docket number EERE-2018-BT-TP-0020 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (CD), in which case it is not necessary to include printed copies.

4. Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov/docket?D=EERE-2018-BT-TP-0020. The docket web page will contain simple instructions on how to access all documents, including public comments.

FOR FURTHER INFORMATION CONTACT: Ms. Jennifer Tiedeman, U.S. Department of Energy, Office of the General Counsel, GC-33, 1000 Independence Avenue SW, Washington, DC 20585-0121. Telephone: (202) 287-6111. Email: Jennifer.Tiedeman@hq.doe.gov.

SUPPLEMENTARY INFORMATION: On March 18, 2019, DOE published a notice in the Federal Register soliciting public comment on its RFI on the measurement of average use cycles or periods of use in DOE test procedures. 84 FR 9721. The RFI provided for the submission of comments by May 17, 2019. The Air Conditioning, Heating, and Refrigeration Institute (AHRI) has requested a two-week extension of the public comment period, stating that it needs additional time to generate a response based on the input of its members. DOE has determined that an extension of the public comment period is appropriate based on the foregoing reason and is hereby extending the comment period. DOE will consider any comments received by midnight on May 31, 2019, and deems any comments received by that time to be timely submitted.

Signed in Washington, DC, on May 1, 2019.
Steven Chalk,
Acting Deputy Assistant Secretary for Energy Efficiency, Energy Efficiency and Renewable Energy.

[FR Doc. 2019-09437 Filed 5-7-19; 8:45 am]

BILLING CODE 6450-01-P